CORPORATION FOR NATIONAL AND COMMUNITY SERVICE

Reinstatement, With Change, of a Previously Approved Information Collection for Which Approval has Expired; Submission for OMB Review; Comment Request

AGENCY: Corporation for National and Community Service.

ACTION: Notice.

The Corporation for National and Community Service (hereinafter the “Corporation”) has submitted the following public information collection request (ICR) to the Office of Management and Budget (OMB) for review and approval in accordance with the Paperwork Reduction Act of 1995 (Pub. L. 104-13, (44 U.S.C. chapter 35). Copies of these individual ICRs, with applicable supporting documentation, may be obtained by calling the Corporation for National and Community Service, Mr. Michael Wagner, (202) 606-5000, extension 316. Individuals who use a telecommunications device for the deaf (TDD) may call (202) 565-2799 between 8:30 a.m. and 5 p.m. Eastern time, Monday through Friday.

Comments should be sent to the Office of Information and Regulatory Affairs, Attn: Ms. Brenda Aguilar, OMB Desk Officer for the Corporation for National and Community Service, Office of Management and Budget, Room 10235, Washington, DC 20503, (202) 395-6929, within 30 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g. permitting electronic submissions of responses.

Type of Review: Reinstatement, with change, of a previously approved collection for which approval has expired.

Agency: Corporation for National and Community Service.

Title: AmeriCorps*VISTA Alumni Locator Card.

OMB Number: 3045-0048 parts A, B, and C.

Frequency: Continuous.

Affected Public: Individuals and households.

Number of Respondents: 90,000 for part A, 15,000 for part B, and 15,000 for part C.

Estimated Time Per Respondent: 2 minutes for part A, 3 minutes for part B, and 5 minutes for part C.

Total Burden Hours: 5,000 hours.

Total Burden Cost (capital/startup): None.

Total Annual Cost (operating/maintaining systems): None.

Description

The Corporation proposes to reinstate, with change, the AmeriCorps*VISTA Alumni Locator Card to VISTA and Americorps*VISTA Alumni home addresses requesting that they complete the card and return it to the AmeriCorps*VISTA Program Office. This change includes adding follow-up ICRs (part B and part C) to the question in Part A that states, “I am also interested in continuing to serve in the following ways.” The card will be used by Corporation personnel and other organizations (only with the explicit written permission of the respondent). The purpose of the card is to enhance communications between the Corporation and former AmeriCorps*VISTA members to provide them with the information on Corporation activities, and to seek their assistance in volunteer recruitment activities.

Dated: January 17, 2001.
Matt B. Dunne,
Director, AmeriCorps*VISTA.

[FR Doc. 01-1956 Filed 1-22-01; 8:45 am]

BILLING CODE 6050-28-P